DEPARTMENT OF TRANSPORTATION

Federal Aviation Administration

[Policy Statement No. ANM-03-111-07]

Testing of Flightcrew Oxygen Masks

AGENCY: Federal Aviation Administration (FAA), DOT.

ACTION: Notice of proposed policy; request for comments.

SUMMARY: The Federal Aviation (FAA) announces the availability of proposed policy on testing of flightcrew oxygens masks as required by § 25.1447(c)(2)(i).

DATES: Send your comments on or before April 11, 2003.

ADDRESSES: Address your comments to the individual identified under FOR FURTHER INFORMATION CONTACT.

FOR FURTHER INFORMATION CONTACT: Steve Boyd, Federal Aviation Administration, Transport Airplane Directorate, Transport Standards Staff, Airplane and Flightcrew Interface Branch, ANM-111, 1601 Lind Avenue, SW., Renton, WA 98055-4056; telephone (425) 227-1138; fax (425) 227-1100; e-mail: steve.boyd@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-111-07.”

Use the following format when preparing your comments:

• Organize your comments issue-by-issue.

• For each issue, state what specific change your are requesting to the proposed policy.

• Include justification, reasons, or data for each change you are requesting.

We also welcome comments in support of the proposed policy.

We will consider all communications received on or before the closing date for comments. We may change the proposed policy because the comments received.

Background

The proposed policy provides a method of compliance with § 25.1447(c)(2)(i), which requires that flight oxygen masks be installed so that they can be donned within five seconds. Use of the policy will help standardized the methods of compliance and produce more consistent compliance findings for all applicants.

Issued in Renton, Washington, on March 3, 2003.
Ali Bahrami,
Acting Manager, Transport Airplane Directorate, Aircraft Certification Service.

[FR Doc. 03-5937 Filed 3-11-03; 8:45 am]

BILLING CODE 4910-13-M